DEPARTMENT OF THE INTERIOR

National Park Service

[NPS-WASO-NRNHL-19892; PPWOCRADI0, PCU00RP14.R50000]

National Register of Historic Places; Notification of Pending Nominations and Related Actions

AGENCY: National Park Service, Interior.

ACTION: Notice.

SUMMARY: The National Park Service is soliciting comments on the significance of properties nominated before November 28, 2015, for listing or related actions in the National Register of Historic Places.

DATES: Comments should be submitted by January 14, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before November 28, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

GEORGIA

DeKalb County

Villa MiraFlores, 1214 Villa Dr., Atlanta, 15000964

ILLINOIS

Kane County

Muirhead, Robert and Elizabeth, House, 42W814 Rohrson Rd., Plato Center, 15000965

Lake County

Van Hagen, George E., House, 12 W. County Line Rd., Barrington Hills, 15000966

MAINE

Cumberland County

Brunswick Commercial Historic District, 50-151 Maine St., Brunswick, 15000968

Falmouth High School, 192 Middle Rd., Falmouth, 15000967

Kennebec County

Hussey—Littlefield Farm, 63 Hussey Rd., Albion, 15000969

Lincoln County

Cottage on King's Row, 1400 ME 32, Bristol, 15000970

Washington County

Marsh Stream Farm, 38 Marsh Stream Ln., Machiasport, 15000971

PENNSYLVANIA

Montgomery County

Hatfield Borough Substation, Lock Up and Firehouse, Cherry at Diamond & Fretz Sts., Hatfield Borough, 15000972

Philadelphia County

Albion Carpet Mill, (Textile Industry in the Kensington Neighborhood of Philadelphia, Pennsylvania MPS) 1821-1845 E. Hagert St., Philadelphia, 15000973

Authority: 60.13 of 36 CFR part 60

Dated: December 3, 2015.
J. Paul Loether,
Chief, National Register of Historic Places/National Historic Landmarks Program.

[FR Doc. 2015-32381 Filed 12-29-15; 8:45 am]

BILLING CODE 4312-51-P